DEPARTMENT OF THE INTERIOR

Geological Survey

[GX24BD009AV0100; OMB Control Number 1028-0126 (renewal)]

Agency Information Collection Activities; Cooperative Research Units (CRU)

AGENCY: U.S. Geological Survey, Department of the Interior.

ACTION: Notice of information collection; request for comment.

SUMMARY: In accordance with the Paperwork Reduction Act of 1995 (PRA), the U.S. Geological Survey (USGS) is renewing an existing information collection.

DATES: Interested persons are invited to submit comments on or before December 5, 2023.

ADDRESSES: Send your comments on the information collection request (ICR) by mail to the U.S. Geological Survey, Information Collections Clearance Officer, 12201 Sunrise Valley Drive, MS 159, Reston, VA 20192; or by email to gs-info_collections@usgs.gov. Please reference OMB Control Number 1028-0126 CRU (renewal) in the subject line of your comments.

FOR FURTHER INFORMATION CONTACT: To request additional information about this ICR, contact Melissa Thode, CRU Program Analyst, by email at mthode@usgs.gov, or by telephone at 703-648-4265. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), all information collections require approval. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: CRU cooperating universities submit applications for research work orders via Grants.gov. The statutory authority used is the Cooperative Research Units Act (16 U.S.C. 753a-753b), Public Law 86-686, sec. 1, Sept. 2, 1960, 74 Stat. 733, as amended by the Fish and Wildlife Improvement Act of 1978, Public Law 95-616, sec. 2, Nov. 8, 1978, 92 Stat. 3110. Applications consist of project proposals, budgets, and SF-424 forms. Information submitted includes project titles, schedules, scope of work, contact information (names, emails, addresses, position titles, telephone numbers), and detailed budget breakdowns (salaries, names, positions, rates of compensation) per USGS Office of Acquisition and Grants requirements.

Title of Collection: Cooperative Research Units.

OMB Control Number: 1028-0126 (renewal).

Form Number: None.

Type of Review: New.

Respondents/Affected Public: CRU cooperating universities.

Total Estimated Number of Annual Respondents: 126.

Total Estimated Number of Annual Responses: 126.

Estimated Completion Time per Response: 41 hours.

Total Estimated Number of Annual Burden Hours: 2325 hours.

Respondent's Obligation: Reading application: 126 respondents × 10 minutes = 21 hours; Preparing and submitting application 126 × 2 hours = 252 hours; Annual progress reports 126 × 2 hours = 252 hours; and Final reports 50 × 36 hours = 1,800 hours. Final Report numbers vary per year based on length of project.

Frequency of Collection: Annually.

Total Estimated Annual Non-hour Burden Cost: None.

An agency may not conduct or sponsor, nor are you required to respond to, a collection of information unless it displays a currently valid OMB control number.

The authorities for this action are the PRA (44 U.S.C. 3501, et seq.).

Don Dennerline,
Acting Deputy Chief, USGS CRU.

[FR Doc. 2023-22326 Filed 10-5-23; 8:45 am]

BILLING CODE 4338-11-P